DEPARTMENT OF THE INTERIOR

National Park Service

[NPS-WASO-NAGPRA-NPS0037131; PPWOCRADN0-PCU00RP14.R50000]

Notice of Inventory Completion: Alabama Department of Archives and History, Montgomery, AL

AGENCY: National Park Service, Interior.

ACTION: Notice.

SUMMARY: In accordance with the Native American Graves Protection and Repatriation Act (NAGPRA), the Alabama Department of Archives and History (ADAH) has completed an inventory of human remains and has determined that there is a cultural affiliation between the human remains and Indian Tribes or Native Hawaiian organizations in this notice. The human remains were removed from Winston or Blount County, AL.

DATES: Repatriation of the human remains in this notice may occur on or after January 22, 2024.

ADDRESSES: Kellie Bowers, NAGPRA Coordinator, the Alabama Department of Archives and History, P.O. Box 300100, 624 Washington Avenue, Montgomery, AL 36130, telephone (334) 353-4731, email nagpra.adah@archives.alabama.gov.

SUPPLEMENTARY INFORMATION: This notice is published as part of the National Park Service's administrative responsibilities under NAGPRA. The determinations in this notice are the sole responsibility of the Alabama Department of Archives and History. The National Park Service is not responsible for the determinations in this notice. Additional information on the determinations in this notice, including the results of consultation, can be found in the inventory or related records held by the Alabama Department of Archives and History.

Description

Winston or Blount County, AL

At an unknown date, human remains representing, at minimum, one individual were removed from the site of Winston or Blount County Cave by members of the Alabama Anthropological Society. On October 8, 1913, the human remains were donated to the ADAH (Human Remains Identification Number 4106). No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, kinship, and linguistics.

Determinations

Pursuant to NAGPRA and its implementing regulations, and after consultation with the appropriate Indian Tribes and Native Hawaiian organizations, the Alabama Department of Archives and History has determined that:

• The human remains described in this notice represent the physical remains of one individual of Native American ancestry.

• There is a relationship of shared group identity that can be reasonably traced between the human remains and associated funerary objects described in this notice and the Alabama-Coushatta Tribe of Texas; Alabama-Quassarte Tribal Town; Cherokee Nation; Coushatta Tribe of Louisiana; Eastern Band of Cherokee Indians; Kialegee Tribal Town; Miccosukee Tribe of Indians; Poarch Band of Creek Indians; Seminole Tribe of Florida; The Chickasaw Nation; The Muscogee (Creek) Nation; The Seminole Nation of Oklahoma; and the Thlopthlocco Tribal Town.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 22, 2024. If competing requests for repatriation are received, the Alabama Department of Archives and History must determine the most appropriate requestor prior to repatriation. Requests for joint repatriation of the human remains are considered a single request and not competing requests. The Alabama Department of Archives and History is responsible for sending a copy of this notice to the Indian Tribes and Native Hawaiian organizations identified in this notice.

Authority: Native American Graves Protection and Repatriation Act, 25 U.S.C. 3003, and the implementing regulations, 43 CFR 10.9, 10.10, and 10.14.

Dated: December 13, 2023.
Melanie O'Brien,
Manager, National NAGPRA Program.

[FR Doc. 2023-28184 Filed 12-21-23; 8:45 am]

BILLING CODE 4312-52-P